DEPARTMENT OF ENERGY

Federal Energy Regulatory Commission

[Docket No. RP03-219-001]

Discovery Gas Transmission LLC; Notice of Compliance Filing

January 27, 2003.

Take notice that on January 13, 2003, Discovery Gas Transmission LLC (Discovery) tendered for filing as part of its FERC Gas Tariff, Original Volume No. 1, Substitute First Revised Sheet No. 186, to be effective February 1, 2003.

Discovery states that this filing is made to modify the tariff filing made by Discovery in the above-captioned proceeding on December 26, 2002.

Discovery further states that copies of the filing have been mailed to each of its customers, interested State Commissions and other interested persons.

Any person desiring to protest said filing should file a protest with the Federal Energy Regulatory Commission, 888 First Street, NE., Washington, DC 20426, in accordance with Section 385.211 of the Commission's Rules and Regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 3, 2003.

Magalie R. Salas,
Secretary.

[FR Doc. 03-2270 Filed 1-30-03; 8:45 am]

BILLING CODE 6717-01-P